DEPARTMENT OF ENERGY

Federal Energy Regulatory Commission

[Docket Nos. RM99-2-000; EL00-39-000; EC00-50-000; ER00-1520-000; EC00-67-000; EL00-46-000; EL00-13-000; ER98-4410-000; ER98-2910-000; EL98-74-000; ER95-112-000; ER96-586-000; ER95-1001-000; EL95-17-000; ER95-1615-000; EL00-12-000; ER96-2709-000; ER00-1743-000; EL99-87-000; ER95-1042-000; ER93-465-000; ER93-922-000; EL00-34-000; EL00-9-000; ER99-2770-000; EL99-69-000; ER99-4392-000; EL98-36-000; ER91-569-000; EL98-8-000; ER99-4400-000; ER00-1655-000; TX93-4-000; EL93-51-000; EF98-3011-000; ER93-465-000; ER93-922-000; ER00-1713-000; ER00-801-000; ER00-1947-000; EL95-33-000]

Regional Transmission Organizations; Southwest Power Pool, Inc.; CP&L Holdings, Inc. On Behalf of Its Public Utility Subsidiaries and Florida Progress Corporation On Behalf of Its Public Utility Subsidiaries; Louisville Gas and Electric Company; Kentucky Utilities Company; Merger Sub; Entergy Power Marketing Corporation v. Southwest Power Pool; Seminole Electric Cooperative, Inc. and Florida Municipal Power Agency; v. Florida Power & Light Company; Entergy Services, Inc.; Entergy Services, Inc.; Entergy Services, Inc.; Entergy Services, Inc. and Entergy Power, Inc.; Entergy Power Marketing Corp. Tennessee Power Company; Entergy Services, Inc.; Entergy Services, Inc.; Clarksdale Public Utilities Commission v. Entergy Services, Inc. as agent for Entergy Arkansas, Inc.; Entergy Louisiana, Inc.; Entergy Mississippi, Inc.; Entergy New Orleans, Inc.; Entergy Gulf States, Inc.; System Energy Resources, Inc.; Florida Power & Light Company; ExxonMobil Chemical Company and ExxonMobil Refining & Supply Company v. Entergy Gulf States, Inc.; Cherokee County Cogeneration Partners, L.P. v. Duke Electric Transmission—a division of Duke Energy Corporation; Florida Power & Light Company; Southwest Power Pool, Inc.; Aquila Power Corporation v. Entergy Services, Inc. as agent for Entergy Arkansas, Inc.; Entergy Louisiana, Inc.; Entergy Mississippi, Inc.; Entergy New Orleans, Inc.; Entergy Gulf States, Inc.; Entergy Services, Inc.; Florida Power & Light Company; Southern Company Services, Inc.; Southern Company Services, Inc.; Florida Municipal Power Agency v. Florida Power & Light Company; United States Department of Energy—Southeastern Power Administration; Florida Power & Light Company; Entergy Services, Inc.; Tampa Electric Company; Entergy Services, Inc.; Louisiana Public Service Commission v. Entergy Services, Inc.; Notice of Meeting

March 29, 2000.

On December 20, 1999, the Commission issued Order No. 2000 to advance the formation of Regional Transmission Organizations (RTOs). Order No. 2000 announced the initiation of a regional collaborative process to aid in the formation of RTOs. To initiate the collaborative process, the Commission organized a series of regional workshops. These workshops are open to all interested parties. The fifth workshop is scheduled for April 6-7, 2000 in Atlanta, Georgia. During the course of the Atlanta workshop, discussion of the above-listed cases could arise. Any person having an interest in an above-listed case is invited to attend the Atlanta workshop. there will be no Commission transcript of any of the workshops, and information discussed or disseminated in the workshop will not constitute part of the decisional record in the above-listed cases, unless formally filed in accordance with Commission regulations.

Linwood A. Watson, Jr.,
Acting Secretary.

[FR Doc. 00-8373 Filed 4-4-00; 8:45 am]

BILLING CODE 6717-01-M